DEPARTMENT OF LABOR

Employment and Training Administration

[TA-W-37,082]

Outboard Marine Corporation, OMC Evinrude Plant Milwaukee, Wisconsin; Notice of Negative Determination Regarding Application for Reconsideration

By application dated March 24, 2000, the United Steelworkers of America (USWA), Local 1302, request administrative reconsideration of the Department's negative determination regarding worker eligibility to apply for TAA. The denial notice applicable to workers of the subject firm located in Milwaukee, Wisconsin, was signed on March 3, 2000 and published in the Federal Register on March 17, 2000 (65 14627).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

Findings of the initial investigation show that workers of Outboard Marine Corporation, OMC Evinrude Plant, Milwaukee, Wisconsin, producing component parts for outboard motors were denied eligibility to apply for TAA based on the finding that the “contributed importantly” criterion of the worker group eligibility requirements of Section 222 of the Trade Act of 1974, as amended, was not met. Layoffs were attributable to the company's decision to consolidate operations and outsource to U.S. manufacturers.

The USWA, Local 1302, states that OMC has entered into an agreement with Suzuki of Japan for the purchase of marine power products, and provided the number of units to be purchased from that supplier this year. This information was available to the Department during the investigation but not elaborated on in the notice of negative determination. The subject firm did not import, nor were there any scheduled imports, of components like or directly competitive with those produced by workers of the firm.

The USWA, Local 1302, also assert that connecting rods for OMC were produced exclusively at OMC Milwaukee plant and those articles were outsourced to a foreign manufacturer. Information provided by the company during the petition investigation did not specifically identify connecting rods as one of the articles produced. The sales and production information submitted to the Department by the subject firm was for crankshafts, drive shafts, propellers and miscellaneous steel products (which included connecting rods).

In order to respond to the USWA, Local 1302, the Department contacted the subject firm, which confirmed that connecting rods were produced at the Milwaukee plant of the subject firm. The company had planned to outsource the production of connecting rods to a domestic manufacturer, but chose a foreign supplier. There were no company of connecting rods during the time period relevant to the investigation, nor have any company imports occurred since the March 3, 2000 negative determination for TA-W-37,082. Connecting rods were an insignificant percentage of output at the subject firm plant. The majority of production at the OMC Evinrude plant in Milwaukee, Wisconsin was transferred domestically.

Conclusion

After review of the application and investigative findings, I conclude that there has been no error or misinterpretation of the law or the facts which would justify reconsideration of the Department of Labor's prior decision. Accordingly, the application is denied.

Signed at Washington, D.C. this 20th day of April 2000.
Edward A. Tomchick,
Director, Division of Trade Adjustment Assistance.

[FR Doc. 00-11121 Filed 5-3-00; 8:45 am]

BILLING CODE 4510-30-M